DEPARTMENT OF DEFENSE

Department of the Army

[Docket ID USA-2010-0002]

Privacy Act of 1974; System of Records

AGENCY: Department of the Army, DoD.

ACTION: Notice to alter a system of records.

SUMMARY: Department of the Army proposes to alter a system of records notices in its existing inventory of record systems subject to the Privacy Act of 1974, (5 U.S.C. 552a), as amended.

DATES: This proposed action will be effective without further notice on April 19, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on March 4, 2010 to the House Committee on Government Reform, the Senate Committee on Homeland Security and Governmental Affairs, and the Office of Management and Budget (OMB) pursuant to paragraph 4c of Appendix I to OMB Circular No. A-130, “Federal Agency Responsibilities for Maintaining Records About Individuals” (February 20, 1996; 61 FR 6427).

Dated: March 15, 2010.
Mitchell S. Bryman,
Alternate OSD Federal Register Liaison Officer, Department of Defense.

A0715-9 DCS, G-4 DoD

System name:

Synchronized Predeployment and Operational Tracker (SPOT) Records (July 29, 2008; 73 FR 43918).

Changes:

* * * * *

System location:

Delete entry and replace with “U.S. Army Acquisition, Logistics and Technology Enterprise Systems and Services (ALTESS), PD ALTESS, Caller Service 4, RFAAP, Building 450, Radford, VA 24143-0004.

DISA DECC, 3990 E. Broad Street, Bldg 23, Columbus, OH 43213-1152 or similar certified Defense/Federal Network Enclave facility. Official mailing addresses may be obtained from the system manager below.”

* * * * *

Categories of records in the system:

Delete entry and replace with “INDIVIDUAL PROFILE DATA: Full name of the individual; Social Security Number (SSN) or federal/foreign identification number; home, office, and deployed telephone numbers; home and deployed address; home, office name, and deployed e-mail addresses; emergency contact name and telephone numbers; next of kin name, phone number and address; common access or identification card user identification; blood type; location and duty station; predeployment medical and dental records.

CONTRACT INFORMATION DATA: Contract number, contract capabilities and contractor organization name, along with employer's contact name, address and telephone number.

TRAVEL INFORMATION DATA: Air travel itineraries and movements in Theater of Operations; passport and/or visa number; clearance level; trip information (e.g., destinations and reservation information); travel authorization documentation (e.g., Government orders or letters of authorization); trip dates; and predeployment processing information including training completed certifications.

WORK AND EDUCATION EXPERIENCE DATA: Educational level achieved, and specialized education or training obtained outside of Federal service. Federal service and documenting work experience and specialized education received while employed. Such records contain information about past and present positions held; grades, salaries, duty station locations; and notices of all personnel actions, such as appointments, transfers, reassignments, details, promotions, demotions, reductions-in-force, resignations, separations, suspensions, office approval of disability retirement date and retirement applications.

MISCELLANEOUS DATA: Authorized weapons and equipment, and other official deployment-related information.”

Authority for maintenance of the system:

Delete entry and replace with “10 U.S.C. 3013, National Defense Appropriations Acts (NDAA) 2008, Section 861; Homeland Security Presidential Directive/HSPD-12; 10 U.S.C. 3018, Secretary of Army; DoD Instruction 3020.41, Contractor Personnel Authorized to Accompany the U.S. Armed Forces; DoD Directive 3020.49, Orchestrating, Synchronizing, and Integrating Program Management of Contingency Acquisition Planning and Its Operational Execution; DoD Instruction 3020.50, Private Security Contractors (PSCs) Operating in Contingency Operations; DoD Directive 1404.10, DoD Civilian Expeditionary Workforce; DoD Directive 1000.25, DoD Personnel Identity Protection (PIP) Program; DoD Instruction 6490.3, Deployment Health; DoD Instruction 8910.01, Information Collection and Reporting; Army Regulation 715-9, Contractors Accompanying the Force and E.O. 9397 (SSN), as amended.”

Purpose(s):

Delete entry and replace with “Information will be used to plan, manage, account for, monitor and report on contracts, their capabilities, contractors and other individuals supporting the Federal Government during planning and operation of any contingency activity. This information will be used to analyze and correlate relationships between requirements and planned actions. Information will also be used to support Department of Defense, Department of State, other federal agencies, coalition partners and the private sector.”

Routine uses of records maintained in the system, including categories of users and the purposes of such uses:

Delete entry and replace with “In addition to those disclosures generally permitted under 5 U.S.C. 552a(b) of the Privacy Act of 1974, these records or information contained therein may specifically be disclosed outside the DoD as a routine use pursuant to 5 U.S.C. 552a(b)(3) as follows:

To Federal, State, and local agencies, federal contractors and applicable civilian organizations to account for personnel located in a contingency area to determine status of processing and deployment documentation, contracts, weapons and equipment, current and historical locations, organizations they work for and contact information.

The DoD `Blanket Routine Uses' set forth at the beginning of the Army's compilation of systems of records notices also apply to this system.”

* * * * *

Retrievability:

Delete and replace with “Name and last four digits of the Social Security Number (SSN).”

* * * * *

System manager(s) and address:

Delete “22060” and replace with “22060-5527”.

Notification procedure:

Delete and replace with “Individuals seeking to determine whether information about themselves is contained in this system should address written inquiries to the Commander, U.S. Army Materiel Command, Plans & Operations Division, AMCOPS-CP, 9301 Chapek Road, Ft. Belvoir, VA 22060-5527.

Requests should contain the individual's full name, four digits of the Social Security Number (SSN), current address, telephone number, when and where they were assigned during the contingency and signature.”

Record access procedures:

Delete with and replace with “Individuals seeking access to information about themselves contained in this system should address written inquiries to Commander, U.S. Army Materiel Command, Plans & Operations Division, AMCOPS-CP, 9301 Chapek Road, Ft. Belvoir, VA 22060-5527.

Requests should contain the individual's full name, last four digits of the Social Security Number (SSN), current address, telephone number, when and where they were assigned during the contingency and signature.”

* * * * *

Record source categories:

Delete entry and replace with “Records and reports of contingency contracts, contingency support, and contractors authorized to accompany the U.S. Armed Forces, Homeland Security Presidential Directive—12 (HSPD-12) compliant credentials, and known locations in a Joint Operational Area.”

* * * * *

A0715-9 DCS, G-4 DoD

System name:

Synchronized Predeployment and Operational Tracker (SPOT) Records

System location:

U.S. Army Acquisition, Logistics and Technology Enterprise Systems and Services (ALTESS), PD ALTESS, Caller Service 4, RFAAP, Building 450, Radford, VA 24143-0004.

DISA DECC, 3990 E. Broad Street, Bldg 23, Columbus, OH 43213-1152 or similar certified Defense/Federal Network Enclave facility. Official mailing addresses may be obtained from the system manager below.

Categories of individuals covered by the system:

Military and civilian employees, dependents, contractors and non-governmental organization personnel, volunteers, partner agencies personnel and members of the public who are supporting planned, ongoing, and historical contingency operations.

Categories of records in the system:

INDIVIDUAL PROFILE DATA: Full name of the individual; Social Security Number (SSN) or federal/foreign identification number; home, office, and deployed telephone numbers; home and deployed address; home, office name, and deployed e-mail addresses; emergency contact name and telephone numbers; next of kin name, phone number and address; common access or identification card user identification; blood type; location and duty station; predeployment medical and dental records.

CONTRACT INFORMATION DATA: Contract number, contract capabilities and contractor organization name, along with employer's contact name, address and telephone number.

TRAVEL INFORMATION DATA: Air travel itineraries and movements in Theater of Operations; passport and/or visa number; clearance level; trip information (e.g., destinations and reservation information); travel authorization documentation (e.g., Government orders or letters of authorization); trip dates; and predeployment processing information including training completed certifications.

WORK AND EDUCATION EXPERIENCE DATA: Educational level achieved, and specialized education or training obtained outside of Federal service. Federal service and documenting work experience and specialized education received while employed. Such records contain information about past and present positions held; grades, salaries, duty station locations; and notices of all personnel actions, such as appointments, transfers, reassignments, details, promotions, demotions, reductions-in-force, resignations, separations, suspensions, office approval of disability retirement date and retirement applications.

MISCELLANEOUS DATA: Authorized weapons and equipment, and other official deployment-related information.

Authority for maintenance of the system:

10 U.S.C. 3013, National Defense Appropriations Acts (NDAA) 2008, Section 861; Homeland Security Presidential Directive/HSPD-12; 10 U.S.C. 3018, Secretary of Army; DoD Instruction 3020.41, Contractor Personnel Authorized to Accompany the U.S. Armed Forces; DoD Directive 3020.49, Orchestrating, Synchronizing, and Integrating Program Management of Contingency Acquisition Planning and Its Operational Execution; DoD Instruction 3020.50, Private Security Contractors (PSCs) Operating in Contingency Operations; DoD Directive 1404.10, DoD Civilian Expeditionary Workforce; DoD Directive 1000.25, DoD Personnel Identity Protection (PIP) Program; DoD Instruction 6490.3, Deployment Health; DoD Instruction 8910.01, Information Collection and Reporting; Army Regulation 715-9, Contractors Accompanying the Force and E.O. 9397 (SSN), as amended.

Purpose(s):

Information will be used to plan, manage, account for, monitor and report on contracts, their capabilities, contractors and other individuals supporting the Federal Government during planning and operation of any contingency activity. This information will be used to analyze and correlate relationships between requirements and planned actions. Information will also be used to support Department of Defense, Department of State, other Federal agencies, coalition partners and the private sector.

Routine uses of records maintained in the system, including categories of users and the purposes of such uses:

In addition to those disclosures generally permitted under 5 U.S.C. 552a(b) of the Privacy Act of 1974, these records or information contained therein may specifically be disclosed outside the DoD as a routine use pursuant to 5 U.S.C. 552a(b)(3) as follows:

To Federal, State, and local agencies, federal contractors and applicable civilian organizations to account for personnel located in a contingency area to determine status of processing and deployment documentation, contracts, weapons and equipment, current and historical locations, organizations they work for and contact information.

The DoD “Blanket Routine Uses” set forth at the beginning of the Army's compilation of systems of records notices also apply to this system.

Policies and practices for storing, retrieving, accessing, retaining, and disposing of records in the system:

Storage:

Electronic storage media.

Retrievability:

Name and last four digits of the Social Security Number (SSN).

Safeguards:

Computerized records are maintained in a controlled area accessible only to authorized personnel. Entry to these areas is restricted to those personnel with a valid requirement and authorization to enter. Physical entry is restricted by the use of lock, guards, and administrative procedures. Access to any specific record is based on the need-to-know and the specific level of authorization granted to the user. Physical and electronic access is restricted to designated individuals having a need-to-know in the performance of official duties. Access to personal information is further restricted by the use of login/password authorization. Information is accessible only by authorized personnel with appropriate clearance/access in the performance of their duties. Records retrieved from SPOT only portray the last four digits of the Social Security Number (SSN).

Retention and disposal:

Permanent. Keep until individual's final deployment is terminated and then retire to the Army Electronic Archives (AEA). The AEA will transfer to the National Archives when the record is 25 years old.

System manager(s) and address:

Commander, U.S. Army Materiel Command, Plans & Operations Division, AMCOPS-CP, 9301 Chapek Road, Ft. Belvoir, VA 22060-5527.

Notification procedure:

Individuals seeking to determine whether information about themselves is contained in this system should address written inquiries to the Commander, U.S. Army Materiel Command, Plans & Operations Division, AMCOPS-CP, 9301 Chapek Road, Ft. Belvoir, VA 22060-5527.

Requests should contain the individual's full name, last four digits of the Social Security Number (SSN), current address, telephone number, when and where they were assigned during the contingency and signature.

Record access procedures:

Individuals seeking access to information about themselves contained in this system should address written inquiries to Commander, U.S. Army Materiel Command, Plans & Operations Division, AMCOPS-CP, 9301 Chapek Road, Ft. Belvoir, VA 22060-5527.

Requests should contain the individual's full name, last four digits of the Social Security Number (SSN), current address, telephone number, when and where they were assigned during the contingency and signature.

Contesting record procedures:

The Army's rules for accessing records, and for contesting contents and appealing initial agency determinations are contained in Army Regulation 340-21; 32 CFR part 505.

Record source categories:

Records and reports of contingency contracts, contingency support, and contractors authorized to accompany the U.S. Armed Forces, Homeland Security Presidential Directive—12 (HSPD-12) compliant credentials, and known locations in a Joint Operational Area.

Exemptions claimed for the system:

None.

[FR Doc. 2010-5953 Filed 3-17-10; 8:45 am]

BILLING CODE 5001-06-P